ENVIRONMENTAL PROTECTION AGENCY

[OPP-34226B; FRL-6788-1]

Availability of Reregistration Eligibility Decision Document for Comment; Correction

AGENCY: Environmental Protection Agency (EPA).

ACTION: Notice.

SUMMARY: In the Federal Register of May 23, 2001 (66 FR 28469) (FRL-6775-9), EPA announced the availability and start of a 60-day public comment period on the Reregistration Eligibility Decision document for the pesticide active ingredient triallate. On page 28469, second column, under the DATES caption, the date provided for the receipt of comments was inadvertently listed as May 20, 2001. The correct date is July 23, 2001. This notice announces the correct comment period.

DATES: Comments, identified by docket control number OPP-34226A, must be received on or before July 23, 2001.

ADDRESSES: For detailed instructions concerning the submission of comments, refer to Unit I.C. of the Federal Register of May 23, 2001.

FOR FURTHER INFORMATION CONTACT: By mail: Carol Stangel, Special Review and Reregistration Division (7508C), Office of Pesticide Programs, Environmental Protection Agency, 1200 Pennsylvania Ave., NW., Washington, DC 20460; telephone number: (703) 308-8007; and e-mail address: stangel.carol@epa.gov.

For technical questions on the RED, contact: Michael Goodis, Special Review and Reregistration Division (7508C), Office of Pesticide Programs, Environmental Protection Agency, 1200 Pennsylvania Ave., NW., Washington, DC 20460; telephone number: (703) 308-8157; and e-mail address: goodis.michael@epa.gov.

List of Subjects

Environmental protection, Pesticides.

Dated: June 7, 2001.
Lois Rossi,
Director, Special Review and Reregistration Division, Office of Pesticide Programs.

[FR Doc. 01-15889 Filed 6-22-01 8:45 am]

BILLING CODE 6560-50-S